FEDERAL COMMUNICATIONS COMMISSION

47 CFR Parts 79

[MB Docket No. 11-43; FCC 11-126]

Video Description: Implementation of the Twenty-First Century Communications and Video Accessibility Act of 2010

AGENCY: Federal Communications Commission.

ACTION: Final rule; technical amendment.

SUMMARY: The Federal Communications Commission published in the Federal Register of September 8, 2011, a document concerning implementation of the Video Description elements of the Twenty-First Century Communications and Video Accessibility Act of 2010. Inadvertently the Compliance date was listed as October 1, 2012. This document corrects the Compliance date to reflect the item and rules as adopted and published, which require compliance beginning on July 1, 2012. It also adds a paragraph which was included in the Proposed Rules in this proceeding but inadvertently omitted from the Final Rules.

DATES: Effective on: November 3, 2011.

FOR FURTHER INFORMATION CONTACT: Lyle Elder, Lyle.Elder@fcc.gov of the Policy Division, Media Bureau, (202) 418-2120.

SUPPLEMENTARY INFORMATION: The FCC published a document in the Federal Register of September 8, 2011 (76 FR 55585), in which the Compliance date listed in the Dates section of the preamble was incorrect and from which a rule paragraph was missing. This technical amendment revises the Compliance date section of the preamble to reflect the text of the item and the rules as published. It also adds a rules paragraph that was included in the Proposed Rules but inadvertently omitted from the Final Rules, and revises adjacent rules to reflect this addition. In rule FR Doc. 2011-22878 published on September 8, 2011 (76 FR 55585), make the following two corrections. First, on page 55585, in the second column, revise the “Compliance date” line to read “Compliance date: July 1, 2012.” Secondly, on page 55605, in the third column, revise paragraphs 79.3(e)(1)(iv) and (v) and add paragraph (vi).

List of Subjects in 47 CFR Part 79

Cable television.

Federal Communications Commission.
Marlene H. Dortch,
Secretary.

Final Rules

Accordingly, 47 CFR part 79 is corrected by making the following correcting amendments:

PART 79—CLOSED CAPTIONING AND VIDEO DESCRIPTION OF VIDEO PROGRAMMING

1. The authority citation for part 79 continues to read as follows:

Authority: 47 U.S.C. 151, 152(a), 154(i), 303, 307, 309, 310, 613.

2. In § 79.3, paragraphs (e)(1)(iv) and (v) are revised and paragraph (e)(1)(vi) is added to read as follows:

§ 79.3 Video description of video programming.

* * * * *

(e) * * *

(1) * * *

(iv) The specific relief or satisfaction sought by the complainant;

(v) The complainant's preferred format or method of response to the complaint (such as letter, facsimile transmission, telephone (voice/TRS/TTY), Internet email, or some other method that would best accommodate the complainant's disability); and

(vi) A certification that the complainant attempted in good faith to resolve the dispute with the broadcast station or MVPD against whom the complaint is alleged.

* * * * *

[FR Doc. 2011-28450 Filed 11-2-11; 8:45 am]

BILLING CODE 6712-01-P